Proclamation 9958 of October 31, 2019

National American History and Founders Month, 2019

By the President of the United States of America

A Proclamation

Over 243 years ago, our Founders gathered in Philadelphia, Pennsylvania, at Independence Hall to sign the Declaration of Independence, enshrining in the heart of every American a bedrock principle that all men are “endowed by their Creator with certain unalienable Rights.” Throughout our Nation's history, countless men and women have boldly defended this principle, often making the ultimate sacrifice on battlefields here and in every corner of the world. From overthrowing tyrannical rule in the Revolutionary War to liberating Europe from Nazi control during World War II, the United States will always remain steadfast in our dedication to promoting liberty and justice over the evil forces of oppression and indignity. This same truth fuels us in our efforts to confront the challenges that face our citizens here at home, including protecting precious religious liberties, securing our Nation's borders, and combating the opioid crisis. During National American History and Founders Month, we celebrate the vibrant American spirit that drives our Nation to remarkable heights.

Our Nation's patriots and heroes have always been guided by the belief that America must shine brightly out into the world. Indeed, this conviction has been at the forefront of the American experiment since our founding. This month, we acknowledge the tremendous strides we have made as a people and recognize that our democracy's survival is dependent upon a well-informed electorate. To ensure the success of our future generations, we pledge to continue to build a more educated citizenry. We heed the warning of President Ronald Reagan that “freedom is never more than one generation away from extinction.”

To continue safeguarding our freedom, we must develop a deeper understanding of our American story. Studying our country's founding documents and exploring our unique history—both the achievements and challenges—is indispensable to the future success of our great Nation. For more than two centuries, the American experiment in self-government has been the antithesis to tyranny, and our Constitution has secured the blessings of liberty. From the triumphs of war to the victories of the Civil Rights Movement to placing the first ever man on the moon 50 years ago, our Nation has time and again exhibited an unparalleled ability to achieve extraordinary feats. To continue to advance liberty and prosperity, we must ensure the next generation of leaders is steeped in the proud history of our country.

On this inaugural National American History and Founders Month, I encourage all citizens to reflect upon the defining tenets that have always united us as Americans, while also taking time to honor those who have contributed to the great story of our country. As Americans, may we forever strive to preserve their legacy for generations to come.

NOW, THEREFORE, I, DONALD J. TRUMP, President of the United States of America, by virtue of the authority vested in me by the Constitution and the laws of the United States, do hereby proclaim November 2019 as National American History and Founders Month. I call upon the people of the United States to observe this month with appropriate ceremonies and activities.

IN WITNESS WHEREOF, I have hereunto set my hand this thirty-first day of October, in the year of our Lord two thousand nineteen, and of the Independence of the United States of America the two hundred and forty-fourth.

[FR Doc. 2019-24277

Filed 11-4-19; 11:15 am]

Billing code 3295-F0-P